DEPARTMENT OF COMMERCE

National Oceanic and Atmospheric Administration

[RTID 0648-XD518]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Fishing Industry Advisory Committee (FIAC), 150th Scientific and Statistical Committee (SSC), Hawaii Archipelago Fishery Ecosystem Plan (FEP) Advisory Panel (AP), American Samoa FEP AP, Mariana Archipelago FEP Joint AP, Executive and Budget Standing Committee and its 197th Council meeting to take actions on fishery management issues in the Western Pacific Region.

DATES: The meetings will be held between November 27 and December 13, 2023. For specific times and agendas, see SUPPLEMENTARY INFORMATION.

ADDRESSES: The meetings will be held by web conference via WebEx. Specific information on joining the meeting, connecting to the web conference and providing oral public comments will be posted on the Council website at www.wpcouncil.org. For assistance with the web conference connection, contact the Council office at (808) 522-8220.

The following venue will be the host site for the Executive and Budget Standing Committee web conference:

• Council office, 1164 Bishop Street, Suite 1400, Honolulu, HI 96813.

The following venues will be the host sites for the 197th Council meeting web conference:

• Council Conference Room, 1164 Bishop Street, Suite 1400, Honolulu, HI;

• Cliff Pointe, 304 W O'Brien Drive, Hagatna, Guam;

• BRI Building Suite 205, Kopa Di Oru St., Garapan, Saipan, Commonwealth of the Northern Mariana Islands (CNMI); and

• Tedi of Samoa Building Suite 208B, Fagatogo Village, American Samoa.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The FIAC meeting will be held between 2 p.m. and 5 p.m. Hawaii Standard Time (HST) on November 27, 2023. The 150th SSC meeting will be held between 11 a.m. and 5 p.m. HST on November 28, and 1 p.m. and 5 p.m. HST on November 29, 2023. The Hawaii Archipelago FEP AP meeting will be held between 9 a.m. and 12 p.m. HST on December 4, 2023, American Samoa Archipelago FEP AP will be held between 5 p.m. and 8 p.m. Samoan Standard Time (SST) on December 5, 2023, Mariana Archipelago FEP Joint AP will be held between 6 p.m. and 8 p.m. Chamorro Standard Time (ChST) on December 7, 2023. The Executive and Budget Standing Committee meeting will be held between 9:30 a.m. and 12 p.m. HST on December 11, 2023. The 197th Council Meeting will be held between 11 a.m. and 5 p.m. HST on December 12-13, 2023. Public Comment on Non-Agenda Items will be held between 4:30 p.m. and 5 p.m. HST on December 12, 2023.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 197th Council meeting will be available at www.wpcouncil.org. Written public comments on final action items at the 197th Council meeting should be received at the Council office by 5 p.m. HST, Thursday, December 8, 2023, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the FIAC Meeting

Monday, November 27, 2023, 2 p.m. to 5 p.m., HST

1. Welcome and introductions

2. Status Report on Previous FIAC Recommendations

3. Roundtable update on Fishing/Market Issues/Impacts

4. Multi-Year Territorial Bigeye Tuna Catch and Allocation Specifications (Action Item)

5. Proposed Fishing Regulations in the Proposed Pacific Remote Islands Sanctuary (Action Item)

6. FIAC Members Letter on National Seafood Strategy

7. Pacific Islands Fisheries Science Center (PIFSC) PIFSC Social-Ecological and Economic Systems Survey Updates

8. Inflation Reduction Act (IRA) Proposal

9. Western and Central Pacific Fisheries Commission (WCPFC) WCPFC Meeting Preparations

10. Other Issues

11. Public Comment

12. Discussion and Recommendations

Agenda for the 150th SSC Meeting

Tuesday, November 28, 2023, 11 a.m. to 5 p.m., HST

1. Introductions

2. Approval of Draft Agenda and Assignment of Rapporteurs

3. Status of the 149th SSC Meeting Recommendations

4. PIFSC Director Report

5. Program Planning and Research

A. Fishing Regulations for the Proposed Pacific Remote Island National Marine Sanctuary (Action Item)

B. Review of Council Research Priorities

C. Review of IRA Projects and Proposal

D. 2024-2026 SSC Plan Development

E. Preparations for the 8th Scientific Coordination Subcommittee Workshop

F. Public Comment

G. SSC Discussion and Recommendations

6. Island Fisheries

A. Guam Bottomfish Stock Assessment Western Pacific Stock Assessment Review (WPSAR) Terms of Reference

B. Hawaii FEP Uku Essential Fish Habitat Revision Amendment (Action Item)

C. Public Comment

D. SSC Discussion and Recommendations

7. Pelagic and International Fisheries

A. Multi-year Territorial Bigeye Tuna Catch Limit and Allocation Specification (Action Item)

B. Public Comment

C. SSC Discussion and Recommendations

Wednesday, November 29, 2023, 1 p.m. to 5 p.m., HST

8. Other Business

A. March 2024 SSC Meetings Dates

9. Summary of SSC Recommendations to the Council

Agenda for the Hawaii Archipelago FEP AP Meeting

Monday, December 4, 2023, 9 a.m. to 12 p.m., HST

1. Welcome and Introductions

2. Review of the Last AP Recommendations and Meeting

3. Hawaii AP Project and Activities Update

4. Feedback from the Fleet

A. Fourth Quarter Hawaii Fishermen Observations

B. Hawaii AP Fisheries Issues and Priorities

5. Hawaii Fishery Issues and Activities

A. Uku Essential Fish Habitat Revision

B. Fishing Regulations for the Proposed Pacific Remote Island National Marine Sanctuary

6. Update on Council IRA Application Priorities and Development

7. Other Business

8. Public Comment

9. Discussion and Recommendations

Agenda for the American Samoa Archipelago FEP AP Meeting

Tuesday, December 5, 2023, 5 p.m. to 8 p.m., SST

1. Welcome and Introductions

2. Review of the Last AP Recommendations and Meeting

3. Feedback from the Fleet

A. Fourth Quarter American Samoa Fishermen Observations

B. AP Fishery Issues and Priorities

4. American Samoa Fishery Issues and Activities

A. Options for the Rebuilding Plan and Annual Catch Limits for the American Samoa Bottomfish Management Unit Species

B. Fishing Regulations for the Proposed Pacific Remote Island National Marine Sanctuary

C. Multi-Year Territorial Bigeye Tuna Catch and Allocation Specification

5. Update on Council IRA Application Priorities and Development

6. Other Business

7. Public Comment

8. Discussion and Recommendations

Agenda for the Mariana Archipelago FEP Joint AP Meeting

Thursday, December 7, 2023, 6 p.m. to 8 p.m., ChST

1. Welcome and Introductions

2. Review of the Last AP Recommendations and Meeting

3. Council Fishery Issues and Activities

A. Multi-Year Territorial Bigeye Tuna Catch and Allocation Specification

B. Fishing Regulations for the Proposed Pacific Remote Island National Marine Sanctuary

4. Feedback from the Fleet

A. Fourth Quarter Fishermen Observations in the Marianas

B. Marianas Archipelago Fishery Issues and Priorities

5. Update on Council IRA Application Priorities and Development

6. Other Business

7. Public Comment

8. Discussion and Recommendations

Agenda for the Executive and Budget Standing Committee Meeting

Monday, December 11, 2023, 9:30 a.m. to 12 p.m., HST

1. Introductions and Approval of Agenda

2. Financial Reports

3. Administrative Reports

4. Inflation Reduction Act

5. Council Family Changes

6. Meetings and Workshops

7. Council Coordination Committee Meeting Outcomes

8. Election of Officers

9. Other Business

10. Public Comment

11. Discussion and Recommendations

Agenda for the 197th Council Meeting

Tuesday, December 12, 2023, 11 a.m. to 5 p.m., HST

1. Welcome and Introductions

2. Oath of Office—New Council Member

3. Approval of the 197th CM Agenda

4. Approval of the 196th CM Meeting Minutes

5. Executive Director's Report

6. Federal Agency Reports

A. National Marine Fisheries Service

B. NOAA Office of General Counsel Pacific Islands Section

C. Ethics Training

D. Enforcement Reports

E. U.S. State Department

F. U.S. Fish and Wildlife Service

G. Public Comment

H. Council Discussion and Action

7. Island Agency Reports

A. American Samoa Department of Marine and Wildlife Resources

B. CNMI Department of Lands and Natural Resources

C. Guam Department of Agriculture

D. Hawaii Department of Land and Natural Resources

E. Public Comment

F. Council Discussion and Action

8. Action Items

A. Fishing Regulations for the Proposed Pacific Remote Island National Marine Sanctuary (Final Action)

B. Advisory Group Report and Recommendations

B.1 FIAC

B.2 AP

B.3 SSC

C. Public Comment

D. Council Discussion and Action

Tuesday, December 12, 2023, 4:30 p.m. to 5 p.m., HST

Public Comment on Non-Agenda Items

Wednesday, December 13, 2023, 11 a.m. to 5 p.m., HST

9. Action Items Continued

A. Discontinuing the Rebuilding Plan and Annual Catch Limit Specifications for the American Samoa Bottomfish Fishery for 2024-2026 (Final Action)

B. Hawaii FEP Uku Essential Fish Habitat Revision Amendment (Final Action)

C. Guam Bottomfish Stock Assessment WPSAR Terms of Reference

D. Multi-year US Territorial Bigeye Tuna Catch Limit and Allocation Specification (Final Action)

E. Advisory Group Report and Recommendations

E.1 FIAC

E.2 AP

E.3 SSC

F. Public Comment

G. Council Discussion and Action

10. Program Items

A. Council IRA Application Priorities and Development

B. Pelagic and International Fisheries

B.1 Council WCPO Longline Management Workshops

B.2 Outcomes of 20th Regular Session of the WCPFC

C. Advisory Group Report and Recommendations

C.1 FIAC

C.2 AP

C.3 SSC

D. Public Comment

E. Council Discussion and Action

11. Administrative Matters

A. Financial Reports

B. Administrative Reports

C. Council Family Changes

D. Meetings and Workshops

E. Report on the CCC Meeting Outcomes

F. Executive and Budget Standing Committee Report

G. Public Comment

H. Council Discussion and Action

12. Other Business

13. Election of Officers

Non-emergency issues not contained in this agenda may come before the Council for discussion and formal Council action during its 197th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 7, 2023.
Rey Israel Marquez,
Acting Deputy Director, Office of Sustainable Fisheries, National Marine Fisheries Service.

[FR Doc. 2023-24946 Filed 11-9-23; 8:45 am]

BILLING CODE 3510-22-P